DEPARTMENT OF THE TREASURY

Submission for OMB Review; Comment Request

November 7, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 17, 2003 to be assured of consideration.

Internal Revenue Service (IRS)

OMB Number: 1545-1849.

Form Number: IRS Form 13460.

Type of Review: Extension.

Title: Employer/Payer Information.

Description: Form 13460 is used to assist filers who have underreported or correction issues. Also, this form expedites research of filer's problems.

Respondents: Business or other for-profit, Not-for-profit institutions, Farms, Federal Government, State or Tribal Government.

Estimated Number of Respondents: 200.

Estimated Burden Hours Per Respondent: 15 minutes.

Frequency of Response: On occasion.

Estimated Total Reporting Burden: 50 hours.

OMB Number: 1545-1854.

Form Number: IRS Form 13469.

Type of Review: Extension.

Title: Electronic Options for Tax Professionals.

Description: This brochure (Publication 4028, which includes Form 13469) will be sent to tax preparers that submitted a mixture of paper and electronic returns for their clients. The brochure provides these professionals the dates and times of electronic seminars being held in the state of Tennessee. These seminars are being conducted to encourage tax professionals to electronically file so the IRS can work toward meeting the goal of 80% electronically filed returns by 2007.

Respondents: Business or other for-profit.

Estimated Number of Respondents: 1,400.

Estimated Burden Hours Per Respondent: 3 minutes.

Frequency of Response: On occasion.

Estimated Total Reporting Burden: 70 hours.

Clearance Officer: R. Joseph Durbala, (202) 622-3634, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports, Management Officer.

[FR Doc. 03-28627 Filed 11-14-03; 8:45 am]

BILLING CODE 4830-01-P